DEPARTMENT OF DEFENSE

Department of the Army

Surplus Properties; Notice

AGENCY: Department of the Army, DoD.

ACTION: Notice.

SUMMARY: This amended notice provides information regarding the properties that have been determined surplus to the United States needs in accordance with the Defense Base Closure and Realignment Act of 1990, Public Law 101-510, as amended, and the 2005 Base Closure and Realignment Commission Report, as approved, and following screening with Federal agencies and Department of Defense components. This Notice amends the Notices published in the Federal Register on May 9, 2006 (71 FR 26932) and May 25, 2012 (77 FR 31339).

DATES: Effective June 4, 2015.

FOR FURTHER INFORMATION CONTACT: Headquarters, Department of the Army, Assistant Chief of Staff for Installation Management, Base Realignment and Closure (BRAC) Division, Attn: DAIM-BD, 600 Army Pentagon, Washington, DC 20310-0600, (703) 545-1318, usarmy.pentagon.hqda-acsim.mbx.braco-webmaster@mail.mil. For information regarding the specific property subject to this notice, a point of contact is provided below.

SUPPLEMENTARY INFORMATION: Under the provisions of the Federal Property and Administrative Services Act of 1949, as amended, the Defense Base Closure and Realignment Act of 1990, as amended, and other public benefit conveyance authorities, this surplus property may be available for conveyance to State and local governments and other eligible entities for public benefit purposes. Notices of interest from representatives of the homeless, and other interested parties located in the vicinity of the listed surplus property should be submitted to the recognized Local Redevelopment Authority (LRA) and Army Point of Contact listed below. Notices of interest from representatives of the homeless shall include the information required by 32 CFR 176.20(c)(2)(ii). The Recognized Local Redevelopment Authority will assist interested parties in evaluating the surplus property for the intended use. The deadline for notices of interest shall be 90 days from the date a corresponding notice is published in a newspaper of general circulation in the vicinity of the surplus property.

Surplus Property List:

Addition:Queens, New York, Fort Tilden U.S. Army Reserve Center (NY022), 415 State Road and Breezy Point Boulevard, Fort Tilden, NY 11695-0513, comprising approximately 9.15 acres. Additional information for this surplus property can be found at http://www.hqda.pentagon.mil/acsimweb/brac/sites.html?state=NY.

The Army's Point of Contact for this surplus property is Mr. Raymond W. Palma, Base Transition Coordinator, 99th Regional Support Command, Joint Base McGuire-Dix-Lakehurst, telephone (609) 221-9558, email: raymond.w.palma.civ@mail.mil.

The Fort Tilden Redevelopment Authority has been recognized as the Local Redevelopment Authority (LRA) for this surplus property. The Fort Tilden Redevelopment Authority is located at 120-55 Queens Boulevard, Room 226, Kew Gardens, New York 11424, telephone: 718-286-3000. The Point of Contact is Mr. Irving Poy, Director, Planning & Development, Office of Queens Borough President.

Authority: This action is authorized by the Defense Base Closure and Realignment Act of 1990, Title XXIX of the National Defense Authorization Act for Fiscal Year 1991, Pub. L. 101-510; the Base Closure Community Redevelopment and Homeless Assistance Act of 1994, Public Law 103-421; and 10 U.S.C. 113.

Dated: June 4, 2015.
Paul D. Cramer,
Deputy Assistant Secretary of the Army (Installations, Housing & Partnerships).

[FR Doc. 2015-15662 Filed 6-25-15; 8:45 am]

BILLING CODE 3710-08-P